GENERAL SERVICES ADMINISTRATION

2007 Federal Acquisition Institute Vendor meeting

AGENCY: Office of the Chief Acquisition Officer, GSA

ACTION: Notice of meeting.

SUMMARY: The Federal Acquisition Institute (FAI) will hold a vendor meeting to provide information on the Federal Acquisition Certification in Program/Project Management (FAC-P/PM) to include program details, and opportunities for vendors to support the training of federal program and project managers.

The purpose of this certification program is to establish the competencies, training, and experience requirements for program and project managers in civilian agencies. The FAC-P/PM focuses on essential competencies needed for program and project managers; the program does not include functional or technical competencies, such as those for information technology, or agency-specific competencies. The certification requirements will be accepted by, at minimum, all civilian agencies as evidence that an employee meets the core competencies, training and experience requirements.

The FAC-P/PM was announced by the Office of Federal Procurement Policy (OFPP) on April 25, 2007. At this vendor meeting, FAI will present its approach for partnering with vendors on this initiative.

WHO SHOULD ATTEND?

Training developers, vendors with Commercial-Off-The- Shelf (COTS) training products, vendors with capabilities related to the full Instructional System Design (ISD) methodologies, professional associations, educational institutions and acquisition training experts.

The meeting will be held October 30, 2007 from 2:00 pm to 3:30 pm, GSA Auditorium located at 1800 F Street, NW, Washington, D.C.

Register by email: maria_hernandez@sra.com, or call (703) 284-6988.

FOR FURTHER INFORMATION CONTACT: Ms. Maria Hernandez, by phone at 703-284-6988 or by e-mail at maria_hernandez@sra.com.

Linda Ott,
Program Analyst, Federal Acquisition Institute

[FR Doc. E7-20593 Filed 10-17-07; 8:45 am]

BILLING CODE 6820-EP-S